DEPARTMENT OF TRANSPORTATION

Federal Aviation Administration

14 CFR Part 39

[Docket No. FAA-2013-0093; Directorate Identifier 2011-NM-109-AD; Amendment 39-17515; AD 2013-14-10]

RIN 2120-AA64

Airworthiness Directives; Gulfstream Aerospace LP (Type Certificate Previously Held by Israel Aircraft Industries, Ltd.) Airplanes

AGENCY: Federal Aviation Administration (FAA), Department of Transportation (DOT).

ACTION: Final rule.

SUMMARY: We are superseding airworthiness directive (AD) 2010-11-02 for all Gulfstream Aerospace LP (Type Certificate Previously Held by Israel Aircraft Industries, Ltd.) Model Gulfstream 100 airplanes, and Model Astra SPX and 1125 Westwind Astra airplanes. AD 2010-11-02 required amending the airplane flight manuals (AFMs) to include additional procedures for verifying complete closure and locking of the main entry door (MED). AD 2010-11-02 also required modifying the warning and caution lights panel (WACLP), changing the WACLP and MED wiring, changing the wiring harness connecting the MED to the WACLP, and revising the log of modification of the AFM if necessary. This new AD revises the compliance time and removes an airplane from the applicability. This AD was prompted by a report of a MED opening in flight on an unmodified airplane. We are issuing this AD to prevent incomplete closure of the MED, which may result in the door opening in flight and possible separation of the door, causing damage to the airplane structure and left engine by flying debris and objects.

DATES: This AD becomes effective September 10, 2013.

The Director of the Federal Register approved the incorporation by reference of a certain publication listed in this AD as of September 10, 2013.

The Director of the Federal Register approved the incorporation by reference of certain other publications listed in this AD as of June 25, 2010 (75 FR 28485, May 21, 2010).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Stafford, Aerospace Engineer, International Branch, ANM-116, Transport Airplane Directorate, FAA, 1601 Lind Avenue SW., Renton, WA 98057-3356; telephone (425) 227-1622; fax (425) 227-1149.

SUPPLEMENTARY INFORMATION:

Discussion

We issued a notice of proposed rulemaking (NPRM) to amend 14 CFR part 39 to include an AD that would apply to the specified products. The NPRM was published in the Federal Register on February 26, 2013 (78 FR 12995), and proposed to supersede AD 2010-11-02, Amendment 39-16307 (75 FR 28485, May 21, 2010), which superseded AD 2007-03-05, Amendment 39-14916 (72 FR 4414, January 31, 2007). The NPRM proposed to correct an unsafe condition for the specified products. The Civil Aviation Authority of Israel (CAAI), which is the aviation authority for Israel, has issued Israeli Airworthiness Directive 31-06-11-05R1, dated May 18, 2011 (referred to after this as the Mandatory Continuing Airworthiness Information, or “the MCAI”), to correct an unsafe condition for the specified products. The MCAI states:

To increase pilots' awareness to the possibility of incomplete closure of the Main Entry Door (MED) by the following means:

1. Splitting the common caution light CABIN DOOR signaling both MED Improper Closure and MED Inflatable Seal Failure into two separate lights: CABIN DOOR and CABIN DOOR SEAL.

2. Converting the separated CABIN DOOR Caution light into a Warning light by changing its color to red.

NOTE: Airplane Flight Manuals (AFM'S) refer to these changes as MOD G1-20052.

Incomplete closure of the MED may be followed by in-flight opening and possible separation of the door. As a result, the MED, the adjacent fuselage structure and other parts of the aircraft may be damaged due to opening forces and landing impact.

Damage to the aircraft structure and to the left engine by flying debris and objects may also occur.

* * * * *

This AD retains the actions required by AD 2010-11-02, Amendment 39-16307 (75 FR 28485, May 21, 2010). This AD limits the existing compliance time. This AD also removes the airplane having serial number (S/N) 158 from the applicability because the modification was done in production. You may obtain further information by examining the MCAI in the AD docket.

Comments

We gave the public the opportunity to participate in developing this AD. We received no comments on the NPRM (78 FR 12995, February 26, 2013) or on the determination of the cost to the public.

Conclusion

We reviewed the available data and determined that air safety and the public interest require adopting this AD as proposed except for minor editorial changes. We have determined that these minor changes:

• Are consistent with the intent that was proposed in the NPRM (78 FR 12995, February 26, 2013) for correcting the unsafe condition; and

• Do not add any additional burden upon the public than was already proposed in the NPRM (78 FR 12995, February 26, 2013).

Costs of Compliance

The new requirements of this AD add no additional economic burden. The current costs for this AD are repeated for the convenience of affected operators, as follows:

We estimate that this AD will affect about 160 products of U.S. registry.

The actions that were required by AD 2010-11-02, Amendment 39-16307 (75 FR 28485, May 21, 2010), and retained in this AD take about 60 work-hours per product, at an average labor rate of $85 per work-hour. Required parts cost about $600 per product. Based on these figures, the estimated cost of the actions required by this AD is $5,700 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2010-11-02, Amendment 39-16307 (75 FR 28485, May 21, 2010), and adding the following new AD:

2013-14-10 Gulfstream Aerospace LP (Type Certificate Previously Held by Israel Aircraft Industries, Ltd.): Amendment 39-17515. Docket No. FAA-2013-0093; Directorate Identifier 2011-NM-109-AD.

(a) Effective Date

This airworthiness directive (AD) becomes effective September 10, 2013.

(b) Affected ADs

This AD supersedes AD 2010-11-02, Amendment 39-16307 (75 FR 28485, May 21, 2010).

(c) Applicability

This AD applies to Gulfstream Aerospace LP (Type Certificate previously held by Israel Aircraft Industries, Ltd.) Model Gulfstream 100 airplanes, and Model Astra SPX and 1125 Westwind Astra airplanes; certificated in any category; all serial numbers except serial number 158.

(d) Subject

Air Transport Association (ATA) of America Code 31: Indicating/Recording Systems.

(e) Reason

This AD was prompted by a report of a main entry door (MED) opening in flight on an unmodified airplane. We are issuing this AD to prevent incomplete closure of the main entry door, which may result in the door opening in flight and possible separation of the door, causing damage to the airplane structure and left engine by flying debris and objects.

(f) Compliance

You are responsible for having the actions required by this AD performed within the compliance times specified, unless the actions have already been done.

(g) Retained Revisions to Airplane Flight Manuals

This paragraph restates the requirements of paragraph (f) of AD 2010-11-02, Amendment 39-16307 (75 FR 28485, May 21, 2010). Within 10 days after February 15, 2007 (the effective date of AD 2007-03-05, Amendment 39-14916 (72 FR 4414, January 31, 2007)), amend Section IV, Normal Procedures, of Gulfstream airplane flight manuals (AFMs) Model 1125 Astra, 25W-1001-1; Model Astra SPX, SPX-1001-1; and Model G100, G100-1001-1; as applicable; to include the language specified in figure 1 to paragraph (g) of this AD. Insertion of copies of figure 1 to paragraph (g) of this AD at the appropriate places of the AFMs is acceptable. The actions required by this paragraph may be accomplished by a holder of a Private Pilot's License.

BILLING CODE 4910-13-P

BILLING CODE 4910-13-C

(h) Retained Modification With Reduced Compliance Time and New Service Information

This paragraph restates the requirements of paragraph (g) of AD 2010-11-02, Amendment 39-16307 (75 FR 28485, May 21, 2010), with a reduced compliance time and new service information.

(1) Within 250 flight hours after June 25, 2010 (the effective date of AD 2010-11-02, Amendment 39-16307 (75 FR 28485, May 21, 2010)), but no later than within 6 months after the effective date of this AD: Modify the warning and caution lights panel (WACLP), in accordance with the Accomplishment Instructions of the applicable service bulletin identified in paragraph (h)(1)(i), (h)(1)(ii), or (h)(1)(iii) of this AD.

(i) Honeywell Service Bulletin 80-0548-31-0001, dated April 1, 2006.

(ii) Honeywell Service Bulletin 80-0548-31-0002, dated March 1, 2006.

(iii) Honeywell Service Bulletin 80-5090-31-0001, dated March 1, 2006.

(2) Within 250 flight hours after June 25, 2010 (the effective date of AD 2010-11-02, Amendment 39-16307 (75 FR 28485, May 21, 2010)), but no later than within 6 months after the effective date of this AD: Change the WACLP and MED wiring, in accordance with the Accomplishment Instructions of Gulfstream Service Bulletin 100-31-284, dated August 17, 2006; or Gulfstream Service Bulletin 100-31-284, Revision 1, dated May 27, 2011. As of the effective date of this AD, Gulfstream Service Bulletin 100-31-284, Revision 1, dated May 27, 2011, must be used to accomplish the actions required by this paragraph.

(3) Within 250 flight hours after June 25, 2010 (the effective date of AD 2010-11-02, Amendment 39-16307 (75 FR 28485, May 21, 2010)), but no later than within 6 months after the effective date of this AD: Change the wiring harness connecting the MED to the WACLP, in accordance with the Accomplishment Instructions of Gulfstream Service Bulletin 100-31-284, dated August 17, 2006; or Gulfstream Service Bulletin 100-31-284, Revision 1, dated May 27, 2011. As of the effective date of this AD, Gulfstream Service Bulletin 100-31-284, Revision 1, dated May 27, 2011, must be used to accomplish the actions required by this paragraph.

(4) Within 250 flight hours after June 25, 2010 (the effective date of AD 2010-11-02, Amendment 39-16307 (75 FR 28485, May 21, 2010)), but no later than within 6 months after the effective date of this AD: Verify that the log of modification of the relevant AFM includes a reference to MOD G1-20052, and, if no reference is found, revise the log of modification of the AFM to include a reference to the modification.

(5) Doing the modifications specified in paragraphs (h)(1), (h)(2), (h)(3), and (h)(4) of this AD terminates the requirements of paragraph (g) of this AD. After the modifications have been done, the AFM limitation required by paragraph (g) of this AD may be removed from the AFM.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Stafford, Aerospace Engineer, International Branch, ANM-116, Transport Airplane Directorate, FAA, 1601 Lind Avenue SW., Renton, WA 98057-3356; telephone (425) 227-1622; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on September 10, 2013.

(i) Gulfstream Service Bulletin 100-31-284, Revision 1, dated May 27, 2011.

(ii) Reserved.

(4) The following service information was approved for IBR on June 25, 2010 (75 FR 28485, May 21, 2010).

(i) Gulfstream Service Bulletin 100-31-284, dated August 17, 2006.

(ii) Honeywell Service Bulletin 80-0548-31-0001, dated April 1, 2006.

(iii) Honeywell Service Bulletin 80-0548-31-0002, dated March 1, 2006.

(iv) Honeywell Service Bulletin 80-5090-31-0001, dated March 1, 2006.

(5) For service information identified in this AD, contact Gulfstream Aerospace Corporation, P.O. Box 2206, Mail Station D-25, Savannah, Georgia 31402-2206; telephone 800-810-4853; fax 912-965-3520; email pubs@gulfstream.com; Internet http://www.gulfstream.com/product_support/technical_pubs/pubs/index.htm.

(6) You may review copies of the service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on July 9, 2013.
Jeffrey E. Duven,
Acting Manager, Transport Airplane Directorate, Aircraft Certification Service.

[FR Doc. 2013-18768 Filed 8-5-13; 8:45 am]

BILLING CODE 4910-13-P